DEPARTMENT OF THE INTERIOR

Bureau of Land Management

[LLORB07000.L17110000.PH0000.LXSSH1060000.17XL1109AF.HAG 17-0106]

Notice of Meeting for the Steens Mountain Advisory Council's Public Land Access Subcommittee, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council's (SMAC) Public Land Access subcommittee will meet as indicated below.

DATES: The SMAC Public Land Access subcommittee will have a field trip on Thursday, September 21, 2017, from 9 a.m. to 5 p.m. Pacific Daylight Time, and a public meeting on Friday, September 22, 2017, from 8:30 a.m. to 3:30 p.m. The meeting may end early if all business items are accomplished ahead of schedule, or may be extended if discussions warrant more time.

ADDRESSES: The field trip will begin at 9 a.m. at the Roaring Springs Ranch, 31437 Highway 205, Frenchglen, Oregon, 97736. The meeting will be held at the same location. Written comments may be sent to the BLM Burns District office, 28910 Highway 20 West, Hines, Oregon 97738.

FOR FURTHER INFORMATION CONTACT: Tara Thissell, Public Affairs Specialist, 28910 Highway 20 West, Hines, Oregon 97738; telephone 541-573-4519; email tthissell@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The SMAC was initiated August 14, 2001, pursuant to the Steens Mountain Cooperative Management and Protection Act of 2000 (Pub. L. 106-399). The SMAC provides representative counsel and advice to the BLM regarding new and unique approaches to management of the land within the bounds of the Steens Mountain Cooperative Management and Protection Area (CMPA), recommends cooperative programs and incentives for landscape management that meet human needs, and advises the BLM on maintenance and improvement of the ecological and economic integrity of the area.

On September 21, 2017, the SMAC Public Land Access subcommittee will have an all day field tour of the private inholdings in the Steens Mountain Wilderness. Both the field trip and the meeting on September 22 are open to the public. However, the public is required to provide its own transportation for the field trip. Agenda items for the meeting include: A discussion on the Ruby Springs Allotment Management Plan; an update from the Designated Federal Official; discussion of the Nature's Advocate Environmental Assessment (inholder access); discussion on public access at Pike Creek Canyon; follow-up on issues that may need legislative attention; and regular business items such as approving the previous meeting's minutes, member round-table, and planning the next meeting's agenda. Any other matters that may reasonably come before the SMAC may also be included.

A public comment period will be available on September 22 from 11:00 to 11:30 a.m. Unless otherwise approved by the SMAC Chair, the public comment period will last no longer than 30 minutes, and each speaker may address the SMAC for a maximum of 5 minutes.

Before including your address, phone number, email address, or other personal identifying information in your comments, please be aware that your entire comment-including your personal identifying information-may be made publicly available at any time. While you can ask us in your comment to withhold your personal identifying information from public review, we cannot guarantee that we will be able to do so.

Authority: 43 CFR 1784.4-2.

Rhonda Karges,
Andrews/Steens Resource Area Field Manager.

[FR Doc. 2017-20150 Filed 9-20-17; 8:45 am]

BILLING CODE 4310-33-P